DEPARTMENT OF LABOR

Occupational Safety and Health Administration

[Docket No. OSHA-2010-0013]

SolarPTL, LLC: Grant of Expansion of Recognition

AGENCY: Occupational Safety and Health Administration (OSHA), Labor.

ACTION: Notice.

SUMMARY: In this notice, OSHA announces the final decision to expand the scope of recognition for SolarPTL, LLC as a Nationally Recognized Testing Laboratory (NRTL).

DATES: The expansion of the scope of recognition becomes effective on December 26, 2023.

FOR FURTHER INFORMATION CONTACT: Information regarding this notice is available from the following sources:

Press inquiries: Contact Mr. Frank Meilinger, Director, OSHA Office of Communications, U.S. Department of Labor; telephone: (202) 693-1999; email: meilinger.francis2@dol.gov.

General and technical information: Contact Mr. Kevin Robinson, Director, Office of Technical Programs and Coordination Activities, Directorate of Technical Support and Emergency Management, Occupational Safety and Health Administration, U.S. Department of Labor; telephone: (202) 693-1911; email: robinson.kevin@dol.gov. OSHA's web page includes information about the NRTL Program (see http://www.osha.gov/dts/otpca/nrtl/index.html).

SUPPLEMENTARY INFORMATION:

I. Notice of Final Decision

OSHA hereby gives notice of the expansion of the scope of recognition for SolarPTL LLC (PTL). PTL's expansion covers the addition of two test standards to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition, as well as for an expansion or renewal of recognition, following requirements in Appendix A to 29 CFR 1910.7. This appendix requires that the agency publish two notices in the Federal Register in processing an application. In the first notice, OSHA announces the application and provides the preliminary finding. In the second notice, the agency provides the final decision on the application. These notices set forth the NRTL's scope of recognition or modifications of that scope. OSHA maintains an informational web page for each NRTL, including PTL, which details that NRTL's scope of recognition. These pages are available from the OSHA website at https://www.osha.gov/dts/otpca/nrtl/index.html.

PTL submitted an application, dated December 21, 2018 (OSHA-2010-0013-0007), to expand recognition as a NRTL to include one additional test standard. The standard requested, UL 61730, was referenced in application as a single standard; however this standard has two parts. PTL amended the application on October 30, 2023 (OSHA-2010-0013-0008), to clarify that the expansion request was for both parts of the standard. OSHA staff performed a detailed analysis of the application packet and reviewed other pertinent information. OSHA performed an on-site assessment related to this application on August 16-17, 2022, where OSHA found nonconformances with the requirements of 29 CFR part 1910. PTL addressed the nonconformances adequately and OSHA has no objection to the addition of both parts of this standard to the NRTL scope of recognition.

OSHA published the preliminary notice announcing PTL's expansion application in the Federal Register on November 21, 2023 (88 FR 81107). The agency requested comments by December 6, 2023, but it received no comments in response to this notice. OSHA now is proceeding with this final notice to grant expansion of PTL's NRTL scope of recognition.

To review copies of all public documents pertaining to PTL's application, go to https://www.regulations.gov or contact the Docket Office, Occupational Safety and Health Administration, U.S. Department of Labor at (202) 693-2350. Docket No. OSHA-2010-0013 contains all materials in the record concerning PTL's recognition. All submissions, including copyrighted material, are available for inspection through the OSHA Docket Office. Contact the OSHA Docket Office at (202) 693-2350 for assistance in locating docket submissions.

II. Final Decision and Order

OSHA staff examined PTL's expansion application, their capability to meet the requirements of the test standards, and other pertinent information. Based on its review of this evidence, OSHA finds that PTL meets the requirements of 29 CFR 1910.7 for expansion of its recognition, subject to the limitations and conditions listed below. OSHA, therefore, is proceeding with this final notice to grant PTL's scope of recognition. OSHA limits the expansion of PTL's recognition to testing and certification of products for demonstration of conformance to the test standards shown below in table 1.

Table 1—Appropriate Test Standards for Inclusion in PTL's NRTL Scope of Recognition
Test standard | Test standard title
UL 61730—Part 1 | Photovoltaic (PV) Module Safety Qualification—Part 1: Requirements for Construction; and
UL 61730—Part 2 | Photovoltaic (PV) Module Safety Qualification—Part 2: Requirements for Testing.

OSHA's recognition of any NRTL for a particular test standard is limited to equipment or materials for which OSHA standards require third-party testing and certification before using them in the workplace. Consequently, if a test standard also covers any products for which OSHA does not require such testing and certification, a NRTL's scope of recognition does not include these products.

A. Conditions

Recognition is contingent on continued compliance with 29 CFR 1910.7, including but not limited to, abiding by the following conditions of recognition:

1. PTL must inform OSHA as soon as possible, in writing, of any change of ownership, facilities, or key personnel, and of any major change in its operations as a NRTL, and provide details of the change(s);

2. PTL must meet all the terms of its recognition and comply with all OSHA policies pertaining to this recognition; and

3. PTL must continue to meet the requirements for recognition, including all previously published conditions on PTL's scope of recognition, in all areas for which it has recognition.

Pursuant to the authority in 29 CFR 1910.7, OSHA hereby expands the scope of recognition of PTL as a NRTL, subject to the limitations and conditions specified above.

III. Authority and Signature

James S. Frederick, Deputy Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393; Sept. 18, 2020), and 29 CFR 1910.7.

Signed at Washington, DC.
James S. Frederick,
Deputy Assistant Secretary of Labor for Occupational Safety and Health.

[FR Doc. 2023-28337 Filed 12-22-23; 8:45 am]

BILLING CODE 4510-26-P